SMALL BUSINESS ADMINISTRATION

[Declaration of Disaster #3479]

Commonwealth of the Northern Mariana Islands (Amendment #2)

In accordance with information received from the Federal Emergency Management Agency effective February 5, 2003, the above-numbered declaration is hereby amended to include Public Assistance for the Islands of Saipan and Tinian within the Commonwealth of the Northern Mariana Islands. Damages were caused by Super Typhoon Pongsona and occurred on December 8, 2002, and continued through December 16, 2002.

All other information remains the same, i.e., the deadline for filing applications for physical damage is February 24, 2003, and for economic injury the deadline is September 24, 2003.

(Catalog of Federal Domestic Assistance Program Nos. 59002 and 59008)
Dated: February 21, 2003.
Hebert L. Mitchell,
Associate Administrator for Disaster Assistance.

[FR Doc. 03-4730 Filed 2-27-03; 8:45 am]

BILLING CODE 8025-01-U